NATIONAL TRANSPORTATION SAFETY BOARD

Sunshine Act Meeting

TIME AND DATE: 9:00 a.m., Tuesday, September 25, 2018.

PLACE: NTSB Conference Center, 429 L'Enfant Plaza SW, Washington, DC 20594.

STATUS: The two items are open to the public.

MATTERS TO BE CONSIDERED:

58357 Highway Special Investigation of Pedestrian Safety

58387 Aircraft Incident Report—Taxiway Overflight, Air Canada Flight 759, Airbus A320-211, C-FKCK, San Francisco, California, July 7, 2017

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, September 19, 2018.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Christopher O'Neil at (202) 314-6100 or by email at christopher.oneill@ntsb.gov for the Highway Special Investigation of Pedestrian Safety and Keith Hollow at (202) 314-6100 or by email at keith.holloway@ntsb.gov for the Aircraft Accident Report.

Tuesday, September 4, 2018.
Candi R. Bing,
Federal Register Liaison Officer.

[FR Doc. 2018-19425 Filed 9-4-18; 11:15 am]

BILLING CODE 7533-01-P